DEPARTMENT OF TRANSPORTATION

Federal Aviation Administration

14 CFR Part 39

[Docket No. FAA-2006-26232 Directorate Identifier 2006-CE-62-AD; Amendment 39-14895; AD 2007-02-08]

RIN 2120-AA64

Airworthiness Directives; EADS SOCATA TBM 700 Airplanes

AGENCY: Federal Aviation Administration (FAA), Department of Transportation (DOT).

ACTION: Final rule.

SUMMARY: We are adopting a new airworthiness directive (AD) for the products listed above. This AD results from mandatory continuing airworthiness information (MCAI) issued by an aviation authority of another country to identify and correct an unsafe condition on an aviation product. The MCAI describes the unsafe condition as a report of a master cylinder yoke failure. We are issuing this AD to require actions to correct the unsafe condition on these products.

DATES: This AD becomes effective February 26, 2007.

The Director of the Federal Register approved the incorporation by reference of certain publications listed in this AD as of February 26, 2007.

ADDRESSES: You may examine the AD docket on the Internet at http://dms.dot.gov or in person at the Docket Management Facility, U.S. Department of Transportation, 400 Seventh Street, SW., Nassif Building, Room PL-401, Washington, DC.

FOR FURTHER INFORMATION CONTACT: Doug Rudolph, Aerospace Engineer, FAA, Small Airplane Directorate, 901 Locust, Room 301, Kansas City, Missouri 64106; telephone: (816) 329-4059; fax: (816) 329-4090.

SUPPLEMENTARY INFORMATION

Streamlined Issuance of AD

The FAA is implementing a new process for streamlining the issuance of ADs related to MCAI. The streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

Discussion

We issued a notice of proposed rulemaking (NPRM) to amend 14 CFR part 39 to include an AD that would apply to the specified products. That NPRM was published in the Federal Register on November 28, 2006 (71 FR 68762). That NPRM proposed to correct an unsafe condition for the specified products. The MCAI states that there was a report of a master cylinder yoke failure. The AD requirements are to detect defective yokes on aircraft and replace them. The aim of this AD is to ensure that normal braking is available at any time to prevent possible runway excursions in the event of failure of the master cylinder yoke.

Comments

We gave the public the opportunity to participate in developing this AD. We have considered the comments received.

EADS SOCATA gave comments addressing the following:

Comment Issue No. 1: Cost of Compliance

EADS SOCATA states:

The proposed AD specifies that: “Required parts would cost about $600”. $600 corresponds to the cost of the replacement of all (4) the master cylinder yokes. According to EADS Socata experience, operators complying with EADS Socata SB70-136-32 had to replace only one yoke in the worst case.

The FAA does not agree. We are using the worst case scenario of all four yokes being replaced. If an operator needs to replace fewer yokes, the cost will be less.

Comment Issue No. 2: Applicability

EADS SOCATA states:

We propose to specify: “This AD applies to SOCATA Model TBM700 airplanes, all serial number, certificated in any category equipped with master cylinder assembly part number ZOO.N6068757280 or ZOO.N6068757281”.

Indeed, the supplier of the master cylinder assembly could change in the future and aircraft equipped with another part number would not be concerned.

The FAA does not agree. Including the part number in the applicability is redundant. Per the AD, the operator has to verify whether the applicable part number is installed and, if so, take appropriate action. If a different part number from a different supplier is installed, then the AD does not apply.

Comment Issue No. 3: Actions and Compliance, Paragraphs (e)(1)(ii)(B) and (e)(2)

EADS SOCATA states:

Paragraph (e)(1)(ii)(B):

Yokes part number ZOO.N7134732200 (delivered since January 2006) can also be installed on aircraft. Socata decides to produce itself yoke part number T700A324004810000 for logistic reasons but the design of this yokes is the same as Parker yoke part number ZOO.N7134732200.

Paragraph (e)(2):

During installation of master cylinder yoke part number ZOO.N7134732200 or installation of master cylinder assembly part number ZOO.N6068757280 or ZOO.N6068757281, we propose to check the yokes in accordance with SB70-136-32 only if these parts were delivered new before January 2006.

The FAA does not agree. Since these parts are not serialized and tracked, there would be no way of knowing if the part was delivered before or after January 2006. In addition, EADS SOCATA TBM Aircraft Mandatory Service Bulletin SB 70-136, ATA No. 32, dated December 2005, requires installation of yoke part number T700A324004810000. If an operator wants to use a different part numbered component and can show that it provides an acceptable level of safety, the operator can make a request to the FAA to approve an alternative method of compliance (AMOC) using the procedures in 14 CFR part 39 and this AD.

Conclusion

We reviewed the available data, including the comments received, and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are described in a separate paragraph of the AD, and take precedence over the actions copied from the MCAI.

Costs of Compliance

We estimate that this AD will affect 270 products of U.S. registry. We also estimate that it will take about 1.5 work-hours per product to comply with this AD. The average labor rate is $80 per work-hour. Required parts will cost about $600 per product. Where the service information lists required parts costs that are covered under warranty, we have assumed that there will be no charge for these parts. As we do not control warranty coverage for affected parties, some parties may incur costs higher than estimated here. Based on these figures, we estimate the cost of this AD to the U.S. operators to be $194,400 or $720 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://dms.dot.gov; or in person at the Docket Management Facility between 9 a.m. and 5 p.m., Monday through Friday, except Federal holidays. The AD docket contains the NPRM, the regulatory evaluation, any comments received, and other information. The street address for the Docket Office (telephone (800) 647-5227) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-02-08 EADS SOCATA: Amendment 39-14895; Docket No. FAA-2006-26232; Directorate Identifier 2006-CE-62-AD.

Effective Date

(a) This airworthiness directive (AD) becomes effective February 26, 2007.

Affected ADs

(b) None.

Applicability

(c) This AD applies to SOCATA Model TBM 700 airplanes, all serial numbers, certificated in any category.

Reason

(d) The mandatory continuing airworthiness information (MCAI) states there was a report of a master cylinder yoke failure. The AD requirements are to detect defective yokes on aircraft and replace them. The aim of this AD is to ensure that normal braking is available at any time to prevent possible runway excursions in the event of failure of the master cylinder yoke.

Actions and Compliance

(e) Unless already done, do the following actions.

(1) For the serial numbers indicated below, within the next 100 hours time in service or 12 months after the effective date of this AD, whichever occurs first:

(i) For airplane serial numbers 269 and 339 and up, check the aircraft records to determine whether the original cylinder yoke or yokes in the master cylinder assembly (both left-hand and right-hand) delivered with the airplane are installed. This check can be done by an owner/operator holding at least a private pilot certificate as authorized by section 43.7 of the Federal Aviation Regulations (14 CFR 43.7).

(A) If you can positively identify that the original yokes in the master cylinder assemblies (both left-hand and right-hand) delivered with the airplane are installed, then make an entry in the aircraft records showing compliance with this AD per section 43.9 of the Federal Aviation Regulations (14 CFR 43.9).

(B) If you cannot positively identify that the original yokes in the master cylinder assemblies (both left-hand and right-hand) delivered with the airplane are installed or if any of the master cylinder yokes have been replaced, then proceed to paragraph (e)(1)(ii) of this AD.

(ii) For all airplane serial numbers, unless the action is shown not to apply per paragraph (e)(1)(i)(A) of this AD, inspect for misalignment of the master cylinder yokes from their threaded pins, as instructed in the EADS SOCATA TBM Aircraft Mandatory Service Bulletin SB 70-136, ATA No. 32, dated December 2005, accomplishment instructions paragraph.

(A) If a yoke is found satisfactory, proceed to its re-installation on aircraft.

(B) If a yoke is found defective, prior to further flight, discard the yoke and install a new part number T700A324004810000 (or FAA-approved equivalent part number) yoke in accordance with EADS SOCATA TBM Aircraft Mandatory Service Bulletin SB 70-136, ATA No. 32, dated December 2005.

(2) For all airplane serial numbers, as of the effective date of this AD, do not install part number ZOO.N7134732200 yokes or yokes in master cylinder assembly part number ZOO.N6068757280 (left hand side) and ZOO.N6068757281 (right hand side), unless EADS SOCATA TBM Aircraft Mandatory Service Bulletin SB 70-136, ATA No. 32, dated December 2005, is complied with.

FAA AD Differences

Note: This AD differs from the MCAI and/or service information as follows:

(1) It does not allow interim use of yokes found defective during inspection. FAA policy is to replace defective parts on critical systems.

(2) It applies to all serial numbers. This will assure that, if any of the airplanes had the affected part number yokes installed after delivery of the airplane, the unsafe condition is still addressed. It also will assure that any of the affected part number yokes are inspected per the AD and service bulletin before future installation of these parts.

Other FAA AD Provisions

(f) The following provisions also apply to this AD:

(1) Alternative Methods of Compliance (AMOCs): The Manager, Standards Staff, FAA, ATTN: Doug Rudolph, Aerospace Engineer, FAA, Small Airplane Directorate, 901 Locust, Room 301, Kansas City, Missouri 64106; telephone: (816) 329 4059; fax: (816) 329 4090, has the authority to approve AMOCs for this AD, if requested using the procedures found in 14 CFR 39.19.

(2) Airworthy Product: For any requirement in this AD to obtain corrective actions from a manufacturer or other source, use these actions if they are FAA approved. Corrective actions are considered FAA approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120 0056.

Material Incorporated by Reference

(g) You must use EADS SOCATA TBM Aircraft Mandatory Service Bulletin SB 70-136, ATA No. 32, dated December 2005, to do the actions required by this AD, unless the AD specifies otherwise.

(1) The Director of the Federal Register approved the incorporation by reference of this service information under 5 U.S.C. 552(a) and 1 CFR part 51.

(2) For service information identified in this AD, contact EADS SOCATA, Direction des Services, 65921 Tarbes Cedex 9, France; telephone: 33 (0)5 62 41 73 00; fax: 33 (0)5 62 41 76 54; or SOCATA AIRCRAFT, INC., North Perry Airport, 7501 South Airport Rd., Pembroke Pines, FL 33023; telephone: (954) 893-1400; fax: (954) 964-4141.

(3) You may review copies at the FAA, Central Region, Office of the Regional Counsel, 901 Locust, Room 506, Kansas City, Missouri 64106; or at the National Archives and Records Administration (NARA). For information on the availability of this material at NARA, call 202-741-6030, or go to: http://www.archives.gov/federal-register/cfr/ibr-locations.html.

Issued in Kansas City, Missouri, on January 12, 2007.
Kim Smith,
Manager, Small Airplane Directorate, Aircraft Certification Service.

[FR Doc. E7-685 Filed 1-19-07; 8:45 am]

BILLING CODE 4910-13-P